DEPARTMENT OF COMMERCE

National Oceanic and Atmospheric Administration

[RTID 0648-XE203]

North Pacific Fishery Management Council; Public Meeting

AGENCY: National Marine Fisheries Service (NMFS), National Oceanic and Atmospheric Administration (NOAA), Commerce.

ACTION: Notice of hybrid meeting.

SUMMARY: The North Pacific Fishery Management Council (Council) Crab Plan Team will meet September 9, 2024, through September 12, 2024.

DATES: The meeting will be held on Monday, September 9, 2024, through Wednesday, September 11, 2024, from 9 a.m. to 4 p.m., and Thursday, September 12, 2024, from 9 a.m. to 12:30 p.m., Pacific Standard Time.

ADDRESSES: The meetings will be a hybrid meeting. The in-person component of the meeting will be held at the Alaska Fishery Science Center in the Traynor Room 2076, 7600 Sand Point Way NE, Building 4, Seattle, WA 98115. If you plan to attend in person, you need to notify Diana Stram (diana.stram@noaa.gov) at least 2 days prior to the meeting (or 2 weeks prior if you are a foreign national). You will also need a valid U.S. Identification Card. If you are attending virtually, join the meeting online through the link at https://meetings.npfmc.org/Meeting/Details/3055.

Council address: North Pacific Fishery Management Council, 1007 W 3rd Ave., Anchorage, AK 99501-2252; telephone: (907) 271-2809.

Instructions for attending the meeting via video conference are given under SUPPLEMENTARY INFORMATION, below.

FOR FURTHER INFORMATION CONTACT: Diana Stram, Council staff; phone: (907) 271-2809; email: diana.stram@noaa.gov. For technical support, please contact our admin Council staff, email: npfmc.admin@noaa.gov.

SUPPLEMENTARY INFORMATION:

Agenda

Monday, September 9, 2024 Through Thursday, September 12, 2024

The agenda will include: (a) summer trawl survey results; (b) Fishery summary 2023/2024; (c) Ecosystem Status reports; (d) SMKC SAFE report; (e) BBRKC SAFE report and risk table; (f) Snow crab SAFE report and risk table; (g) BBRKC and snow crab report cards; (h) Tanner crab SAFE report and risk table; (i) NSRKC proposed models; (j) Overfishing status updates; (k) BSFRF update; and (l) additional topics. The agenda is subject to change, and the latest version will be posted at https://meetings.npfmc.org/Meeting/Details/3055 prior to the meeting, along with meeting materials.

Connection Information

You can attend the meeting online using a computer, tablet, or smart phone, or by phone only. Connection information will be posted online at: https://meetings.npfmc.org/Meeting/Details/3055.

Public Comment

Public comment letters will be accepted and should be submitted electronically to https://meetings.npfmc.org/Meeting/Details/3055.

Authority: 16 U.S.C. 1801 et seq.

Dated: August 19, 2024.
Rey Israel Marquez,
Acting Deputy Director, Office of Sustainable Fisheries, National Marine Fisheries Service.

[FR Doc. 2024-18888 Filed 8-22-24; 8:45 am]

BILLING CODE 3510-22-P